DEPARTMENT OF LABOR

Employment and Training Administration

[TA-W-35,434]

Baker Atlas, A/K/A Western Atlas, Inc., A/K/A Wedge Dia-Log, Inc., Houston, TX; Amended Notice of Revised Determination on Remand

In accordance with Section 223 of the Trade Act of 1974 (19 U.S.C. 2273) the Department of Labor issued a Notice of Revised Determination on Remand on January 4, 2000, applicable to workers of Baker Atlas, Houston, Texas. The notice was published in the Federal Register on January 14, 2000 (65 FR 2434).

At the request of the State agency, the Department reviewed the determination for workers of the subject firm. The workers are engaged in the exploration and drilling of crude oil. Information shows that in August 1998, Baker Atlas merged with Western Atlas, Inc. which owned Wedge Dia-Log, Inc. Information also shows that some of the workers separated from employment at the subject firm had their wages reported to two separated Unemployment Insurance tax accounts; Western Atlas, Inc. and Wedge Dia-Log, Inc. Accordingly, the Department is amending the determination to properly reflect this matter.

The intent of the Department's certification is to include all workers of Baker Atlas adversely affected by increased imports.

The amended notice applicable to TA-W-35,434 is hereby issued as follows:

All workers of Baker Atlas, also known as Western Atlas, Inc. and also known as Wedge Dia-Log, Inc., Houston, Texas who became totally or partially separated from employment on or after November 30, 1997 through January 4, 2002 are eligible to apply for adjustment assistance under Section 223 of the Trade Act of 1974.

Signed at Washington DC, this 2nd day of November, 2000.
Linda G. Poole,
Certifying Officer, Division of Trade Adjustment Assistance.

[FR Doc. 00-29154 Filed 11-14-00; 8:45 am]

BILLING CODE 4510-30-M